INTERNATIONAL TRADE COMMISSION

[Investigation No. 337-TA-983]

Certain Laser-Driven Light Sources, Subsystems Containing Laser-Driven Light Sources, and Products Containing Same; Commission Determination Not To Review an Initial Determination Granting a Joint Motion To Terminate the Investigation Based on a Settlement Agreement

AGENCY: U.S. International Trade Commission.

ACTION: Notice.

SUMMARY: Notice is hereby given that the U.S. International Trade Commission has determined not to review an initial determination (“ID”) (Order No. 12) issued by the presiding administrative law judge (“ALJ”) granting a joint motion to terminate the investigation based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on January 21, 2016, based on a complaint filed by Energetiq Technology, Inc. of Woburn, Massachusetts. See 81 FR 3473 (Jan. 21, 2016). The complaint, as supplemented, alleges violations of section 337 of the Tariff Act of 1930, as amended, 19 U.S.C. 1337, in the importation into the United States, the sale for importation, and the sale within the United States after importation of certain laser-driven light sources, subsystems containing laser-driven light sources, and products containing same by reason of infringement of certain claims of U.S. Patent Nos. 8,969,841; 9,048,000; and 9,185,786. The respondents named in the Commission's notice of investigation are ASML Netherlands B.V. of Veldhoven, the Netherlands; ASML US, Inc. of Chandler, Arizona; and Qioptiq Photonics GmbH & Co. KG, of Gottingen, Germany. The Office of Unfair Import Investigations is not participating in the investigation.

On May 11, 2016, complainant and respondents filed a joint motion to terminate this investigation in its entirety based on a settlement agreement.

On May 31, 2016, the ALJ issued an ID (Order No. 12), granting the motion for termination. The ALJ found that the joint motion complies with the Commission Rules and that termination of the investigation will not adversely affect the public interest. No party petitioned for review of the subject ID. The Commission has determined not to review the ID.

The authority for the Commission's determination is contained in section 337 of the Tariff Act of 1930, as amended (19 U.S.C. 1337), and in part 210 of the Commission's Rules of Practice and Procedure (19 CFR part 210).

By order of the Commission.
Issued: June 27, 2016.
Lisa R. Barton,
Secretary to the Commission.

[FR Doc. 2016-15610 Filed 6-30-16; 8:45 am]

BILLING CODE 7020-02-P